DEPARTMENT OF COMMERCE

Foreign-Trade Zones Board

[Order No. 1817]

Reorganization/Expansion of Foreign-Trade Zone 77 Under Alternative Site Framework Memphis, Tennessee Area

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the City of Memphis, grantee of Foreign-Trade Zone 77, submitted an application to the Board (FTZ Docket 51-2011, filed 08/03/11) for authority to reorganize and expand under the ASF with a service area of Shelby County, Tennessee, within the Memphis U.S. Customs and Border Protection port of entry, and FTZ 77's existing Site 4 and proposed Site 10 would be categorized as magnet sites, while Sites 1, 2, 3, 5, 6, 7, 8, 9, 11 and 12 would be categorized as usage-driven sites;

Whereas, notice inviting public comment was given in the Federal Register (76 FR 48121, 08/08/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 77 under the alternative site framework is approved, subject to the FTZ Act and the Board's regulations, including Section 400.28, to the Board's standard 2,000-acre activation limit for the overall general-purpose zone project, to a five-year ASF sunset provision for magnet sites that would terminate authority for Site 4 if not activated by February 28, 2017, and to a three-year ASF sunset provision for usage-driven sites that would terminate authority for Sites 1, 2, 3, 5, 6, 7, 8, 9, 11 and 12 if no foreign-status merchandise is admitted for a bona fide customs purpose by February 28, 2015.

Signed at Washington, DC, this 29th day of February 2012.
Ronald K. Lorentzen,
Acting Assistant Secretary of Commerce for Import Administration, Alternate Chairman, Foreign-Trade Zones Board.

[FR Doc. 2012-5914 Filed 3-9-12; 8:45 am]

BILLING CODE P